DEPARTMENT OF COMMERCE

International Trade Administration

[C-428-853, C-533-925, C-518-002, C-274-811]

Melamine From Germany, India, Qatar, and Trinidad and Tobago: Initiation of Countervailing Duty Investigations

AGENCY: Enforcement and Compliance, International Trade Administration, Department of Commerce.

DATES: Applicable March 5, 2024.

FOR FURTHER INFORMATION CONTACT: Bob Palmer or Faris Montgomery (Germany), Paul Kebker or Dylan Hill (India), Sofia Pedrelli (Qatar), and Colin Thrasher (Trinidad and Tobago), AD/CVD Operations, Offices VIII, IV, II, and V, Enforcement and Compliance, International Trade Administration, U.S. Department of Commerce, 1401 Constitution Avenue NW, Washington, DC 20230; telephone: (202) 482-9068, (202) 482-1537, (202) 482-2254, (202) 482-1197, (202) 482-4310, or (202) 482-3004, respectively.

SUPPLEMENTARY INFORMATION:

The Petitions

On February 14, 2024, the U.S. Department of Commerce (Commerce) received countervailing duty (CVD) petitions concerning imports of melamine from Germany, India, Qatar, and Trinidad and Tobago filed in proper form on behalf of Cornerstone Chemical Company (the petitioner).¹ The CVD petitions were accompanied by antidumping duty (AD) petitions concerning imports of melamine from Germany, India, Japan, the Netherlands, Qatar, and Trinidad and Tobago.²

¹ See Petitioner's Letter, “Petitions for the Imposition of Antidumping and Countervailing Duties,” dated February 14, 2024 (the Petitions).

² Id.

Between February 16 and 20, 2024, Commerce requested supplemental information pertaining to certain aspects of the Petitions.³ Between February 22 and 26, 2024, the petitioner filed timely responses to these requests for additional information.⁴

³ See Commerce's Letters, “Petition for the Imposition of Countervailing Duties on Imports of Melamine from the Federal Republic of Germany: Supplemental Questions,” dated February 20, 2024; “Petition for the Imposition of Countervailing Duties on Imports of Melamine from India: Supplemental Questions,” dated February 20, 2024; “Petition for the Imposition of Countervailing Duties on Imports of Melamine from the State of Qatar: Supplemental Questions,” dated February 16, 2024; and “Petitions for the Imposition of Antidumping and Countervailing Duties on Imports of Melamine from Germany, India, Japan, the Netherlands, Qatar, and Trinidad and Tobago: Supplemental Questions,” dated February 16, 2024 (General Issues Questionnaire).

⁴ See Petitioner's Letters, “Petitioner's Response to Volume I General Issues Supplemental Questionnaire,” dated February 22, 2024 (General Issues Supplement); “Petitioner's Response to Volume VIII Supplemental Questionnaire (Germany Countervailing Duties),” dated February 23, 2024 (Germany CVD Supplement); “Petitioner's Response to Volume IX Supplemental Questionnaire (India Countervailing Duties),” dated February 26, 2024; and “Petitioner's Response to Volume X Supplemental Questionnaire (Qatar Countervailing Duties),” dated February 22, 2024.

In accordance with section 702(b)(1) of the Tariff Act of 1930, as amended (the Act), the petitioner alleges that the Government of Germany (GOG), the Government of India (GOI), the Government of Qatar (GOQ), and the Government of Trinidad and Tobago (GOTT) (collectively, Governments) are providing countervailable subsidies, within the meaning of sections 701 and 771(5) of the Act, to producers of melamine from Germany, India, Qatar, and Trinidad and Tobago, respectively, and that such imports are materially injuring, or threatening material injury to, the domestic industry producing melamine in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry because the petitioner is an interested party as defined in section 771(9)(C) of the Act. Commerce also finds that the petitioner demonstrated sufficient industry support with respect to the initiation of the requested CVD investigations.⁵

⁵ See section on “Determination of Industry Support for the Petitions,” infra.

Periods of Investigation

Because the Petitions were filed on February 14, 2024, the periods of investigation (POI) for Germany, India, Qatar, and Trinidad and Tobago are January 1, 2023, through December 31, 2023.⁶

⁶ See 19 CFR 351.204(b)(2).

Scope of the Investigations

The merchandise covered by these investigations is melamine from Germany, India, Qatar, and Trinidad and Tobago. For a full description of the scope of these investigations, see the appendix to this notice.

Comments on the Scope of the Investigations

On February 16, 2024, Commerce requested information and clarification from the petitioner regarding the proposed scope to ensure that the scope language in the Petitions is an accurate reflection of the products for which the domestic industry is seeking relief.⁷ On February 22, 2024 the petitioner provided clarifications and revised the scope.⁸ The description of merchandise covered by these investigations, as described in the appendix to this notice, reflects these revisions.

⁷ See General Issues Questionnaire.

⁸ See General Issues Supplement at 5-8.

As discussed in the Preamble to Commerce's regulations, we are setting aside a period for interested parties to raise issues regarding product coverage (i.e., scope).⁹ Commerce will consider all comments received from interested parties and, if necessary, will consult with interested parties prior to the issuance of the preliminary determinations. If scope comments include factual information, all such factual information should be limited to public information.¹⁰ To facilitate preparation of its questionnaires, Commerce requests that scope comments be submitted by 5:00 p.m. Eastern Time (ET) on March 25, 2024, which is 20 calendar days from the signature date of this notice.¹¹ Any rebuttal comments, which may include factual information, must be filed by 5:00 p.m. ET on April 4, 2024, which is 10 calendar days from the initial comment deadline.

⁹ See Antidumping Duties; Countervailing Duties; Final Rule, 62 FR 27296, 27323 (May 19, 1997) (Preamble).

¹⁰ See 19 CFR 351.102(b)(21) (defining “factual information”).

¹¹ See 19 CFR 351.303(b)(1).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹³ Commerce held consultations with the GOTT on February 23, 2024,¹⁴ the GOG and the European Union Commission on February 28, 2024,¹⁵ and the GOI on March 4, 2024.¹⁶ The GOQ did not request consultations.

¹³ See Commerce's Letters, “Countervailing Duty Petition on Melamine from the Federal Republic of Germany: Invitation for Consultations,” dated February 15, 2024; “Invitation for Consultations to Discuss the Countervailing Duty Petition on Melamine from India,” dated February 15, 2024; “Countervailing Duty Petition on Melamine from the State of Qatar: Invitation for Consultations to Discuss the Countervailing Duty Petition,” dated February 15, 2024; and “Countervailing Duty Petition on Melamine from Trinidad and Tobago,” dated February 15, 2024.

¹⁴ See Memorandum, “Consultations with Officials from the Government of Trinidad and Tobago,” dated February 23, 2024.

¹⁵ See Memorandum, “Consultations with Officials from the Government of Germany and the European Union,” dated February 28, 2024.

¹⁶ See Memorandum, “Consultations with Officials from the Government of India,” dated March 4, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁷ they do so for different purposes and pursuant to a separate and distinct authority. In addition, Commerce's determination is subject to limitations of time and information. Although this may result in different definitions of the like product, such differences do not render the decision of either agency contrary to law.¹⁸

¹⁷ See section 771(10) of the Act.

¹⁸ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁹ Based on our analysis of the information submitted on the record, we have determined that melamine, as described in the domestic like product definition set forth in the Petitions, constitutes a single domestic like product, and we have analyzed industry support in terms of that domestic like product.²⁰

¹⁹ See Petitions at Volume I (pages 14-17 and Exhibits I-3 through I-5, I-21, and I-22).

²⁰ For a discussion of the domestic like product analysis as applied to these cases and information regarding industry support, see CVD Investigation Initiation Checklists: Melamine from Germany, India, Qatar, and Trinidad and Tobago, dated concurrently with, and hereby adopted by, this notice (Country-Specific CVD Initiation Checklists), at Attachment II, Analysis of Industry Support for the Antidumping and Countervailing Duty Petitions Covering Melamine from Germany, India, Japan, the Netherlands, Qatar, and Trinidad and Tobago (Attachment II). These checklists are on file electronically via ACCESS.

In determining whether the petitioner has standing under section 702(c)(4)(A) of the Act, we considered the industry support data contained in the Petitions with reference to the domestic like product as defined in the “Scope of the Investigations,” in the appendix to this notice. To establish industry support, the petitioner provided its own production of the domestic like product in 2023.²¹ The petitioner states that there are no other known producers of melamine in the United States and provided information to support its claim; therefore, the Petitions are supported by 100 percent of the U.S. industry.²² We relied on data provided by the petitioner for purposes of measuring industry support.²³

²¹ See Petitions at Volume I (page 5 and Exhibit I-1).

²² Id. at 5 and Exhibits I-1, I-3 and I-8.

²³ Id. For further discussion, see Attachment II of the Country-Specific CVD Initiation Checklists.

Our review of the data provided in the Petitions and other information readily available to Commerce indicates that the petitioner has established industry support for the Petitions.²⁴ First, the Petitions established support from domestic producers (or workers) accounting for more than 50 percent of the total production of the domestic like product and, as such, Commerce is not required to take further action to evaluate industry support (e.g., polling).²⁵ Second, the domestic producers (or workers) have met the statutory criteria for industry support under section 702(c)(4)(A)(i) of the Act because the domestic producers (or workers) who support the Petitions account for at least 25 percent of the total production of the domestic like product.²⁶ Finally, the domestic producers (or workers) have met the statutory criteria for industry support under section 702(c)(4)(A)(ii) of the Act because the domestic producers (or workers) who support the Petitions account for more than 50 percent of the production of the domestic like product produced by that portion of the industry expressing support for, or opposition to, the Petitions.²⁷ Accordingly, Commerce determines that the Petitions were filed on behalf of the domestic industry within the meaning of section 702(b)(1) of the Act.²⁸

²⁴ See Attachment II of the Country-Specific CVD Initiation Checklists.

²⁵ Id.; see also section 702(c)(4)(D) of the Act.

²⁶ See Attachment II of the Country-Specific CVD Initiation Checklists.

²⁷ Id.

²⁸ Id.

Injury Test

Because Germany, India, Qatar, and Trinidad and Tobago are “Subsidies Agreement Countries” within the meaning of section 701(b) of the Act, section 701(a)(2) of the Act applies to these investigations. Accordingly, the ITC must determine whether imports of the subject merchandise from Germany, India, Qatar, and/or Trinidad and Tobago materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports from Germany, India, Qatar, and Trinidad and Tobago exceed the negligibility threshold provided for under section 771(24)(A) of the Act.²⁹

²⁹ See Petitions at Volume I (pages 17-18 and Exhibit I-23).

The petitioner contends that the industry's injured condition is illustrated by the significant volume of subject imports; reduced market share; underselling and price depression and/or suppression; lost sales and revenues; decline in shipments, production, and capacity utilization; and adverse effect on financial performance.³⁰ We assessed the allegations and supporting evidence regarding material injury, threat of material injury, causation, cumulation, as well as negligibility, and we have determined that these allegations are properly supported by adequate evidence and meet the statutory requirements for initiation.³¹ In accordance with section 771(7)(G)(ii)(III) of the Act, which provides an exception to the mandatory cumulation provision for imports from any country designated as a beneficiary country under the Caribbean Basin Economic Recovery Act (CBERA), we considered the petitioner's allegation of injury with respect to Trinidad and Tobago, a designated beneficiary under CBERA, independently of the allegations for Germany, India, and Qatar, and found that the information provided satisfies the requirements for initiation.³²

³⁰ See Petitions at Volume I (pages 1-3, 17-40 and Exhibits I-1, I-3 through I-5, I-8, I-13, and I-23 through I-31).

³¹ See Country-Specific CVD Initiation Checklists at Attachment III, Analysis of Allegations and Evidence of Material Injury and Causation for the Antidumping and Countervailing Duty Petitions Covering Melamine from Germany, India, Japan, the Netherlands, Qatar, and Trinidad and Tobago.

³² Id.

Initiation of CVD Investigations

Based upon the examination of the Petitions and supplemental responses, we find that they meet the requirements of section 702 of the Act. Therefore, we are initiating CVD investigations to determine whether imports of melamine from Germany, India, Qatar, and Trinidad and Tobago benefit from countervailable subsidies conferred by the GOG, GOI, GOQ, and GOTT, respectively. In accordance with section 703(b)(1) of the Act and 19 CFR 351.205(b)(1), unless postponed, we will make our preliminary determinations no later than 65 days after the date of these initiations.

Germany

Based on our review of the Petitions, we find that there is sufficient information to initiate a CVD investigation on all 11 of the programs alleged by the petitioner.³³ For a full discussion of the basis for our decision to initiate on each program, see the Germany CVD Initiation Checklist. A public version of the initiation checklist for this investigation is available on ACCESS.

³³ We note that the petitioner withdrew an allegation for one program in the Petition, the Special Equalization Scheme (SES)—Reduced Surcharge Under the KWKG program. See Germany CVD Supplement at 10.

India

Based on our review of the Petitions, we find that there is sufficient information to initiate a CVD investigation on all 19 of the programs alleged by the petitioner. For a full discussion of the basis for our decision to initiate on each program, see the India CVD Initiation Checklist. A public version of the initiation checklist for this investigation is available on ACCESS.

Qatar

Based on our review of the Petitions, we find that there is sufficient information to initiate a CVD investigation on all seven programs alleged by the petitioner. For a full discussion of the basis for our decision to initiate on each program, see the Qatar CVD Initiation Checklist. A public version of the initiation checklist for this investigation is available on ACCESS.

Trinidad and Tobago

Based on our review of the Petitions, we find that there is sufficient information to initiate a CVD investigation on both of the programs alleged by the petitioner. For a full discussion of the basis for our decision to initiate on each program, see the Trinidad and Tobago CVD Initiation Checklist. A public version of the initiation checklist for this investigation is available on ACCESS.

Respondent Selection

In the Petitions, the petitioner identified one company in Germany (i.e., LAT Nitrogen Piesteritz GmbH), one company in India (i.e., Gujarat State Fertilizer and Chemicals Limited), two companies in Qatar (i.e., Qatar Melamine Company; and Muntajat Qatar Chemical and Petrochemical Marketing and Distribution Company), and one company in Trinidad and Tobago (i.e., Methanol Holdings (Trinidad) Limited) as producers and/or exporters of melamine and provided independent third-party information as support.³⁴ We currently know of no additional producers/exporters of melamine products from Germany, India, Qatar, and Trinidad and Tobago.

³⁴ See Petition at Volume I (page 13 and Exhibit I-18).

Accordingly, Commerce intends to individually examine all known producers/exporters in the investigations from these countries (i.e., the companies cited above). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine all known producers/exporters in Germany, India, Qatar, and Trinidad and Tobago, if no comments are received or if comments received further support the existence of only these producers/exporters in Germany, India, Qatar, and Trinidad and Tobago, respectively, we do not intend to conduct respondent selection and will proceed to issuing the initial CVD questionnaires to the companies identified. However, if comments are received which create a need for a respondent selection process, we intend to finalize our decisions regarding respondent selection within 20 days of publication of this notice.

Distribution of Copies of the Petitions

In accordance with section 702(b)(4)(A) of the Act and 19 CFR 351.202(f), a copy of the public version of the Petitions has been provided to the GOG, GOI, GOQ, and GOTT via ACCESS. To the extent practicable, we will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions was filed, whether there is a reasonable indication that imports of melamine from Germany, India, Qatar, and/or Trinidad and Tobago are materially injuring, or threatening material injury to, a U.S. industry.³⁵ A negative ITC determination for any country will result in the investigation being terminated with respect to that country.³⁶ Otherwise, these CVD investigations will proceed according to statutory and regulatory time limits.

³⁵ See section 703(a)(1) of the Act.

³⁶ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁷ and, if the information is submitted to rebut, clarify, or correct factual information already on the record, to provide an explanation identifying the information already on the record that the factual information seeks to rebut, clarify, or correct.³⁸ Time limits for the submission of factual information are addressed in 19 CFR 351.301, which provides specific time limits based on the type of factual information being submitted. Interested parties should review the regulations prior to submitting factual information in these investigations.

³⁷ See 19 CFR 351.301(b).

³⁸ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁰

³⁹ See 19 CFR 351.302.

⁴⁰ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under administrative protective order in accordance with 19 CFR 351.305. Parties wishing to participate in these investigations should ensure that they meet the requirements of 19 CFR 351.103(d) (e.g., by filing the required letters of appearance). Note that Commerce has amended certain of its requirements pertaining to the service of documents in 19 CFR 351.303(f).⁴³

⁴³ See Administrative Protective Order, Service, and Other Procedures in Antidumping and Countervailing Duty Proceedings, 88 FR 67069 (September 29, 2023).

This notice is issued and published pursuant to sections 702 and 777(i) of the Act, and 19 CFR 351.203(c).

Dated: March 5, 2024.
Ryan Majerus,
Deputy Assistant Secretary for Policy and Negotiations, performing the non-exclusive functions and duties of the Assistant Secretary for Enforcement and Compliance.

Appendix

Scope of the Investigations

The merchandise subject to these investigations is melamine (Chemical Abstracts Service (CAS) registry number 108-78-01, molecular formula C3 H6 N6). Melamine is also known as 2,4,6-triamino-s-triazine; 1,3,5-Triazine-2,4,6- triamine; Cyanurotriamide; Cyanurotriamine; Cyanuramide; and by various brand names. Melamine is a crystalline powder or granule. All melamine is covered by the scope of these investigations irrespective of purity, particle size, or physical form. Melamine that has been blended with other products is included within this scope when such blends include constituent parts that have been intermingled, but that have not been chemically reacted with each other to produce a different product. For such blends, only the melamine component of the mixture is covered by the scope of these investigations. Melamine that is otherwise subject to these investigations is not excluded when commingled with melamine from sources not subject to these investigations. Only the subject component of such commingled products is covered by the scope of these investigations.

The subject merchandise is provided for in subheading 2933.61.0000 of the Harmonized Tariff Schedule of the United States (HTSUS). Although the HTSUS subheading and CAS registry number are provided for convenience and customs purposes, the written description of the scope is dispositive.

[FR Doc. 2024-05126 Filed 3-8-24; 8:45 am]

BILLING CODE 3510-DS-P